DEPARTMENT OF ENERGY

Federal Energy Regulatory Commission

Notice of Application To Amend License, and Soliciting Comments, Motions To Intervene, and Protests

October 9, 2001.

Take notice that the following hydroelectric application has been filed with the Commission and is available for public inspection:

a. Application Type: Request for Approval to replace turbines on two of the project's main generating units.

b. Project No: 459-113.

c. Date Filed: August 1, 2001.

d. Applicant: AmerenUE (dba Union Electric Company).

e. Name of Project: Osage Project.

f. Location: The Project is located on the Osage River In Benton, Camden, Miller, and Morgan Counties, Missouri. The project utilizes federal lands.

g. Filed Pursuant to: Federal Power Act, 16 U.S.C. 791(a)-825(r).

h. Applicant Contact: Mr. Alan Sullivan, Consulting Engineer, Osage Project, AmerenUE, One American Plaza, 1901 Chouteau Avenue, P.O. Box 66149, St. Louis, MO 63166-6149. Tel: (573) 365-9329.

i. FERC Contact: Any questions on this notice should be addressed to Mr. Allan Creamer at (202) 219-0365 or allan.creamer@ferc.fed.us, or, Mr. Mohamad Fayyad at (202) 219-2665 or mohamad.fayyad@ferc.fed.us.

j. Deadline for filing comments and/or motions: (October 25, 2001).

Please include the project number (P-459-113) on any comments or motions filed.

All documents (original and eight copies) should be filed with: David P. Boergers, Secretary, Federal Energy Regulatory Commission, 888 First Street, NE., Washington, DC 20426.

k. Description of Filing: AmerenUE filed a letter proposing to replace turbines on two of the Osage Project's eight main generating units. Union states that the new turbines will be more efficient and will better utilize the resource potential of the Osage River. The project's maximum hydraulic capacity will increase by about 3,000 cfs. According to AmerenUE, it will not exceed the project's current maximum tailwater level obtained under the current license.

l. Locations of the Application: A copy of the application is available for inspection and reproduction at the Commission's Public Reference Room, located at 888 First Street, NE., Room 2A, Washington, DC 20426, or by calling (202) 208-1371. This filing may also be viewed on the web at http://www.ferc.gov.html using the “RIMS” link, select “Docket #” and follow the instructions (call 202-208-2222 for assistance). A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's web site at http://www.ferc.gov under the “e-Filing” link.

David P. Boergers,
Secretary.

[FR Doc. 01-25778 Filed 10-12-01; 8:45 am]

BILLING CODE 6717-01-P